ENVIRONMENTAL PROTECTION AGENCY

[FRL-9632-5]

Farm, Ranch, and Rural Communities Advisory Committee (FRRCC)

AGENCY: Environmental Protection Agency (EPA).

ACTION: Notice of Charter Renewal.

The Charter for the Environmental Protection Agency's Farm, Ranch, and Rural Communities Advisory Committee (FRRCC) will be renewed for an additional two-year period, as a necessary committee which is in the public interest, in accordance with the provisions of the Federal Advisory Committee Act (FACA), 5 U.S.C. App.2. The purpose of the FRRCC is to provide advice to the Administrator of EPA on environmental issues and policies that are of importance to agriculture and rural communities. It is determined that the FRRCC is in the public interest in connection with the performance of duties imposed on the Agency by law. Inquiries may be directed to Alicia Kaiser, U.S. EPA, (mail code 1101-A), 1200 Pennsylvania Avenue NW., Washington, DC 20460, telephone (202) 564-7273, or kaiser.alicia@epa.gov.

Dated: February 7, 2012.
Lawrence Elworth,
Agricultural Counselor to the Administrator.

[FR Doc. 2012-3537 Filed 2-14-12; 8:45 am]

BILLING CODE 6560-50-P